DEPARTMENT OF ENERGY

Federal Energy Regulatory Commission

Combined Notice of Filings #1

Take notice that the Commission received the following electric rate filings:

Docket Numbers: ER11-2908-002.

Applicants: Midwest Independent Transmission System Operator, Inc.

Description: Midwest Independent Transmission System Operator, Inc. submits tariff filing per 35: 09-09-11 Supplemental Reserves Compliance to be effective 4/19/2011.

Filed Date: 09/09/2011.

Accession Number: 20110909-5144.

Comment Date: 5 p.m. Eastern Time on Friday, September 30, 2011.

Docket Numbers: ER11-3846-001.

Applicants: El Paso Electric Company.

Description: El Paso Electric Company submits tariff filing per 35: Compliance Refiling of Rate Schedule No. 106 to be effective 6/21/2011.

Filed Date: 09/09/2011.

Accession Number: 20110909-5211.

Comment Date: 5 p.m. Eastern Time on Friday, September 30, 2011.

Docket Numbers: ER11-4109-001.

Applicants: Florida Power Corporation.

Description: Florida Power Corporation submits tariff filing per 35.17(b): Revised Service Agreement No. 143 under Florida Power Corporation OATT to be effective 5/18/2011.

Filed Date: 09/08/2011.

Accession Number: 20110908-5090.

Comment Date: 5 p.m. Eastern Time on Thursday, September 29, 2011.

Docket Numbers: ER11-4111-001.

Applicants: Hudson Ranch Power I LLC.

Description: Hudson Ranch Power I LLC submits tariff filing per 35.17(b): Amended Application for Market-Based Rate Authority to be effective 12/1/2011.

Filed Date: 09/09/2011.

Accession Number: 20110909-5210.

Comment Date: 5 p.m. Eastern Time on Friday, September 30, 2011.

Docket Numbers: ER11-4148-001.

Applicants: Southwest Power Pool, Inc.

Description: Southwest Power Pool, Inc. submits tariff filing per 35.17(b): Amendment to 1636R3 Kansas Electric Power Cooperative, Inc. NITSA NOA to be effective 6/1/2011.

Filed Date: 09/08/2011.

Accession Number: 20110908-5064.

Comment Date: 5 p.m. Eastern Time on Thursday, September 29, 2011.

Docket Numbers: ER11-4172-002.

Applicants: Southwest Power Pool, Inc.

Description: Southwest Power Pool, Inc. submits tariff filing per 35.17(b): Amendment to 1636R4 Kansas Electric Power Cooperative, Inc. to be effective 7/1/2011.

Filed Date: 09/08/2011.

Accession Number: 20110908-5062.

Comment Date: 5 p.m. Eastern Time on Thursday, September 29, 2011.

Docket Numbers: ER11-4180-001.

Applicants: Southwest Power Pool, Inc.

Description: Southwest Power Pool, Inc. submits tariff filing per 35.17(b): Amendment to 2166 Westar Energy Inc. NITSA NOA to be effective 7/1/2011.

Filed Date: 09/08/2011.

Accession Number: 20110908-5063.

Comment Date: 5 p.m. Eastern Time on Thursday, September 29, 2011.

Docket Numbers: ER11-4272-001.

Applicants: ITC Midwest LLC.

Description: ITC Midwest LLC submits tariff filing per 35.17(b): Amendment to Filing to be effective 10/10/2011.

Filed Date: 09/08/2011.

Accession Number: 20110908-5140.

Comment Date: 5 p.m. Eastern Time on Thursday, September 29, 2011.

Docket Numbers: ER11-4291-001.

Applicants: Kentucky Utilities Company.

Description: Kentucky Utilities Company submits tariff filing per 35.17(b): 09_09_11 KU ARAs Errata to be effective 8/15/2011.

Filed Date: 09/09/2011.

Accession Number: 20110909-5102.

Comment Date: 5 p.m. Eastern Time on Friday, September 30, 2011.

Docket Numbers: ER11-4462-001.

Applicants: NEPM II, LLC.

Description: NEPM II, LLC submits tariff filing per 35.17(b): Errata to NEPM II, LLC's MBR Tariff Application to be effective 11/1/2011.

Filed Date: 09/08/2011.

Accession Number: 20110908-5170.

Comment Date: 5 p.m. Eastern Time on Thursday, September 29, 2011.

Docket Numbers: ER11-4488-000.

Applicants: PJM Interconnection, L.L.C.

Description: PJM Interconnection, L.L.C. submits tariff filing per 35.13(a)(2)(iii: PJM Service Agreement No. 3044 among PJM, EMMT, ExGen and ComEd to be effective 8/10/2011.

Filed Date: 09/09/2011.

Accession Number: 20110909-5113.

Comment Date: 5 p.m. Eastern Time on Friday, September 30, 2011.

Docket Numbers: ER11-4489-000.

Applicants: ICC Energy Corporation.

Description: ICC Energy Corporation submits tariff filing per 35.12: ICC Energy Corporation Market-Based Rate Application to be effective 9/9/2011.

Filed Date: 09/09/2011.

Accession Number: 20110909-5114.

Comment Date: 5 p.m. Eastern Time on Friday, September 30, 2011.

Docket Numbers: ER11-4489-000.

Applicants: ICC Energy Corporation.

Description: ICC Energy Corporation submits tariff filing per: Supplement Filing to Include Asset Table to be effective N/A.

Filed Date: 09/09/2011.

Accession Number: 20110909-5134.

Comment Date: 5 p.m. Eastern Time on Friday, September 30, 2011.

Docket Numbers: ER11-4490-000.

Applicants: PacifiCorp.

Description: PacifiCorp submits tariff filing per 35.13(a)(2)(iii: Brigham City Interconnection Agreement to be effective 11/9/2011.

Filed Date: 09/09/2011.

Accession Number: 20110909-5115.

Comment Date: 5 p.m. Eastern Time on Friday, September 30, 2011.

Docket Numbers: ER11-4491-000.

Applicants: Wolverine Power Supply Cooperative, Inc.

Description: Wolverine Power Supply Cooperative, Inc. submits tariff filing per 35.13(a)(2)(iii: Wholesale Power Contract with Midwest Energy Cooperative to be effective 11/9/2011.

Filed Date: 09/09/2011.

Accession Number: 20110909-5133.

Comment Date: 5 p.m. Eastern Time on Friday, September 30, 2011.

Docket Numbers: ER11-4492-000.

Applicants: PacifiCorp.

Description: PacifiCorp's cancellation of Rate Schedule FERC No. 341, Substation Operating Agreement between PacifiCorp and Brigham City.

Filed Date: 09/09/2011.

Accession Number: 20110909-5160.

Comment Date: 5 p.m. Eastern Time on Friday, September 30, 2011.

Docket Numbers: ER11-4493-000.

Applicants: PJM Interconnection, L.L.C.

Description: PJM Interconnection, L.L.C. submits tariff filing per 35.13(a)(2)(iii: PJM Service Agreement Nos. 3045 and 3046-ISA & ICSA among PJM, VEPCO & Dominion to be effective 8/10/2011.

Filed Date: 09/09/2011.

Accession Number: 20110909-5164.

Comment Date: 5 p.m. Eastern Time on Friday, September 30, 2011.

Docket Numbers: ER11-4494-000.

Applicants: International Transmission Company, Midwest Independent Transmission System Operator, Inc.

Description: International Transmission Company submits tariff filing per 35.13(a)(2)(iii: Cancellation ITC Early Energy to be effective 9/9/2011.

Filed Date: 09/09/2011.

Accession Number: 20110909-5187.

Comment Date: 5 p.m. Eastern Time on Friday, September 30, 2011.

Docket Numbers: ER11-4495-000.

Applicants: International Transmission Company, Midwest Independent Transmission System Operator, Inc.

Description: International Transmission Company submits tariff filing per 35.13(a)(2)(iii: Cancellation of ITC-Harvest Trial Op to be effective 9/9/2011.

Filed Date: 09/09/2011.

Accession Number: 20110909-5190.

Comment Date: 5 p.m. Eastern Time on Friday, September 30, 2011.

Docket Numbers: ER11-4496-000.

Applicants: International Transmission Company, Midwest Independent Transmission System Operator, Inc.

Description: International Transmission Company submits tariff filing per 35.13(a)(2)(iii: Cancellation ITC-Harvest E&P to be effective 9/9/2011.

Filed Date: 09/09/2011.

Accession Number: 20110909-5196.

Comment Date: 5 p.m. Eastern Time on Friday, September 30, 2011.

Docket Numbers: ER11-4497-000.

Applicants: Pacific Gas and Electric Company.

Description: Pacific Gas and Electric Company submits tariff filing per 35.13(a)(2)(iii: E&P Agreement for PG&E's Guernsey Solar Station to be effective 9/12/2011.

Filed Date: 09/09/2011.

Accession Number: 20110909-5212.

Comment Date: 5 p.m. Eastern Time on Friday, September 30, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2011.
Nathaniel J. Davis, Sr.,
Deputy Secretary.

[FR Doc. 2011-24032 Filed 9-19-11; 8:45 am]

BILLING CODE 6717-01-P